SECURITIES AND EXCHANGE COMMISSION

[Release Nos. 33-8560; 34-51417, File No. 265-23]

Advisory Committee on Smaller Public Companies

AGENCY: Securities and Exchange Commission.

ACTION: Notice of first meeting of SEC Advisory Committee on Smaller Public Companies.

SUMMARY: The Securities and Exchange Commission Advisory Committee on Smaller Public Companies will hold its first meeting on Tuesday, April 12, 2005, in the William O. Douglas Room of the Commission's headquarters, 450 Fifth Street, NW., Washington, DC, beginning at 9:30 a.m. The meeting will be open to the public and webcast on the Commission's Web site at http://www.sec.gov. The public is invited to submit written statements to the Committee.

DATES: Written statements should be received on or before April 8, 2005.

ADDRESSES: Written statements may be submitted by any of the following methods:

Electronic Statements

• Use the Commission's Internet submission form (http://www.sec.gov/info/smbus/acspc.shtml; or

• Send an e-mail message to rule-comments@sec.gov. Please include File Number 265-23 on the subject line; or

Paper Statements

• Send paper statements in triplicate to Jonathan G. Katz, Secretary, Securities and Exchange Commission, 450 Fifth Street, NW., Washington, DC 20549-0609.

All submissions should refer to File No. 265-23. This file number should be included on the subject line if e-mail is used. To help us process and review your statement more efficiently, please use only one method. The Commission will post all statements on the Commission's Web site (http://www.sec.gov./info/smbus/acspc.shtml). Statements are also available for public inspection and copying in the Commission's Public Reference Room, 450 Fifth Street, NW., Washington, DC 20549. All statements received will be posted without change; we do not edit personal identifying information from submissions. You should submit only information that you wish to make available publicly.

FOR FURTHER INFORMATION CONTACT: Kevin M. O'Neill, Special Counsel, at (202) 942-2908, Office of Small Business Policy, Division of Corporation Finance, Securities and Exchange Commission, 450 Fifth Street, NW., Washington, DC 20549-0310.

SUPPLEMENTARY INFORMATION: In accordance with Section 10(a) of the Federal Advisory Committee Act, 5 U.S.C.-App. 1, § 10(a), and the regulations thereunder, Gerald J. Laporte, Designated Federal Officer of the Committee, has ordered publication of this notice that the Advisory Committee will hold its first meeting on April 12, 2005, in the William O. Douglas Room at the Commission's headquarters, 450 Fifth Street, NW., Washington, DC, beginning at 9:30 a.m. The purpose of this meeting is to discuss general organizational matters, a Committee Agenda and a timetable for the Committee's work. The agenda for the meeting includes consideration of publishing a release in the Federal Register soliciting public comment on the Committee Agenda, which sets forth the proposed topics for consideration by the Committee over its entire term. Members of the public are not expected to be permitted to speak or orally address the Committee at this meeting, but are expected to be able to do so at some future meetings in accordance with guidelines to be adopted and published.

Dated: March 23, 2005.
Jonathan G. Katz,
Secretary.

[FR Doc. 05-6100 Filed 3-23-05; 4:59 pm]

BILLING CODE 8010-01-P